MILLENNIUM CHALLENGE CORPORATION

[MCC FR 12-09]

Notice of the September 13, 2012, Millennium Challenge Corporation Board of Directors Meeting; Sunshine Act Meeting

AGENCY: Millennium Challenge Corporation.

TIME AND DATE: 3 p.m. to 5 p.m., Thursday, September 13, 2012.

PLACE: Department of State, 2201 C Street NW., Washington, DC 20520.

FOR FURTHER INFORMATION CONTACT: Information on the meeting may be obtained from Melvin F. Williams, Jr., Vice President, General Counsel and Corporate Secretary via email at corporatesecretary@mcc.gov or by telephone at (202) 521-3600.

STATUS: Meeting will be closed to the public.

MATTERS TO BE CONSIDERED: The Board of Directors (the “Board”) of the Millennium Challenge Corporation (“MCC”) will hold a meeting to discuss the Selection Criteria & Methodology Report, impact evaluations, completion risks in compact implementation countries, update on Mali wind-up, and gender. The agenda items are expected to involve the consideration of classified information and the meeting will be closed to the public.

Dated: August 29, 2012.
Melvin F. Williams, Jr.,
VP/General Counsel and Corporate Secretary, Millennium Challenge Corporation.

[FR Doc. 2012-21786 Filed 8-30-12; 11:15 am]

BILLING CODE 9211-03-P